DEPARTMENT OF LABOR

Office of the Secretary

Submission for OMB Review: Comment Request

March 5, 2008.

The Department of Labor (DOL) hereby announces the submission of the following public information collection requests (ICRs) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Occupational Safety and Health Administration (OSHA), Office of Management and Budget, Room 10235, Washington, DC 20503, Telephone: 202-395-7316 / Fax: 202-395-6974 (these are not a toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title of Collection: Underground Construction Standard (29 CFR 1926.800).

OMB Control Number: 1218-0067.

Agency Form Number: None.

Affected Public: Private Sector—Business or other for-profit.

Estimated Number of Respondents: 323.

Estimated Total Annual Burden Hours: 57,949.

Estimated Total Annual Costs Burden: $117,000.

Description: The Department's regulations at 29 CFR 1926.800 require underground construction employers are required to certify hoist inspections; post various warning signs; and keep a record of air quality test results to identify decreasing oxygen levels or potentially hazardous concentrations of air contaminants and to take corrective action prior to attaining hazardous conditions. For additional information, see related notice published at 72 FR 71161 on December 14, 2007.

Agency: Occupational Safety and Health Administration.

Type of Review: Extension without change of a previously approved collection.

Title of Collection: Construction Standards on Posting Emergency Telephone Numbers and Floor Load Limits.

OMB Control Number: 1218-0093.

Agency Form Numbers: None.

Affected Public: Private Sector—Business or other for-profits.

Estimated Number of Respondents: 801,837.

Estimated Total Annual Burden Hours: 197,819.

Estimated Total Annual Costs Burden: $0.

Description: The Department's regulations at 29 CFR part 1926.50(f) require employers to post emergency telephone numbers at the worksite if the 911 emergency telephone service is not available. 29 CFR part 250(a)(2) requires that employers must post the maximum safe load limits of floors located in storage areas inside buildings or other structures unless the floors are on grade. For additional information, see related notice published at 72 FR 71162 on December 14, 2007.

Darrin A. King,
Acting Departmental Clearance Officer.

[FR Doc. E8-4703 Filed 3-10-08; 8:45 am]

BILLING CODE 4510-26-P